DEPARTMENT OF COMMERCE

Foreign-Trade Zones Board

[Order No. 1540]

Approval for Manufacturing Authority Merck Sharpe & Dohme Quimica de Puerto Rico Inc. (Pharmaceutical Products) Caguas, PR

Pursuant to its authority under the Foreign-Trade Zones Act of June 18, 1934, as amended (19 U.S.C. 81a-81u), the Foreign-Trade Zones Board (the Board) adopts the following Order:

Whereas, the Puerto Rico Industrial Development Corporation, grantee of Foreign-Trade Zone (FTZ) 7, has requested manufacturing authority under § 400.32(b)(2) of the Board's regulations on behalf of Merck Sharpe & Dohme Quimica de Puerto Rico Inc. within FTZ 7 at the MOVA Pharmaceutical Corporation facility in Caguas, Puerto Rico (FTZ Docket 31-2007, filed 7/27/07);

Whereas, notice inviting public comment has been given in the Federal Register (72 FR 43233, 8/3/07); and,

Whereas, the Board adopts the findings and recommendations of the examiner's report, and finds that the requirements of the FTZ Act and the Board's regulations are satisfied, and that approval of the application is in the public interest;

Now, therefore, the Board hereby orders:

The application for manufacturing authority within FTZ 7 on behalf of Merck Sharpe & Dohme Quimica de Puerto Rico Inc. is approved, subject to the FTZ Act and the Board's regulations, including section 400.28.

Signed at Washington, DC, this 17th day of January 2008.
David M. Spooner,
Assistant Secretary of Commerce for Import Administration, Alternate Chairman, Foreign-Trade Zones Board.

Andrew McGilvray,

Executive Secretary.

[FR Doc. E8-1544 Filed 1-28-08; 8:45 am]

BILLING CODE 3510-DS-P